NUCLEAR REGULATORY COMMISSION

[Docket No. 70-7015-ML; ASLBP No. 10-899-02-ML-BD01]

Atomic Safety and Licensing Board; AREVA Enrichment Services, LLC (Eagle Rock Enrichment Facility)

December 17, 2010.

Before Administrative Judges: G. Paul Bollwerk, III, Chairman, Dr. Kaye D. Lathrop, Dr. Craig M. White

Notice of Hearing (Notice of Evidentiary Hearing and Opportunity to View Hearing via Webstreaming; Opportunity To Submit Written Limited Appearance Statements)

The Atomic Safety and Licensing Board hereby gives notice that it will convene an evidentiary session to receive testimony and exhibits in the “mandatory hearing” portion of this proceeding regarding the December 2008 Application by AREVA Enrichment Services, LLC, (AES) seeking a license under 10 CFR parts 30, 40, and 70 that would authorize (1) the construction and operation of a gas centrifuge uranium enrichment facility—denoted as the Eagle Rock Enrichment Facility (EREF)—in Bonneville County, Idaho; and (2) the receipt, possession, use, delivery, and transfer of byproduct (e.g., calibration sources), source and special nuclear material at the EREF. This evidentiary hearing will concern safety matters relating to the proposed issuance of the requested license. In addition, the Board gives notice of the opportunity to view the hearing over the Internet, via publicly-available webstreaming. Finally, the Board gives notice that, in accordance with 10 CFR 2.315(a), it will entertain written limited appearance statements from members of the public in connection with this proceeding.

A. Matters To Be Considered

As set forth by the Commission in the July 30, 2009 Notice of Hearing regarding this proceeding, see Notice of Receipt of Application for License; Notice of Consideration of Issuance of License; Notice of Hearing and Commission Order and Order Imposing Procedures for Access to Sensitive Unclassified Non-Safeguards Information and Safeguards Information for Contention Preparation; In the Matter of [AES] ([EREF]), 74 FR 38052, 38054 (July 30, 2009) (CLI-09-15, 70 NRC 1, 7-8 (2009)), the matters to be considered generally are whether the application and record of the proceeding contain sufficient information to support license issuance and whether the NRC staff's review of the AES application has been adequate to support findings to be made by the Director of the Office of Nuclear Materials Safety and Safeguards, with respect to the applicable standards in 10 CFR parts 30, 40, and 70. With respect to this particular portion of the proceeding, which generally concerns the safety-related aspects of the AES safety analysis report and the associated staff safety evaluation report (SER), the particular matters about which AES and the staff will make evidentiary presentations to the Board concern site-specific process-related hazards, foreign ownership and control, license conditions/exemptions, and commitment followup/tracking.

B. Date, Time, and Location of Evidentiary Hearing for Safety-Related Portion of the Mandatory Hearing

The Board will conduct an evidentiary hearing for the portion of the mandatory hearing regarding safety matters beginning at 10 a.m. Eastern Time (ET) on Tuesday, January 25, 2011, at the Atomic Safety and Licensing Board Panel Hearing Room, Two White Flint North Building, Third Floor, Room T-3B45, 11545 Rockville Pike, Rockville, Maryland. The hearing will continue day-to-day until concluded. AES and the NRC staff will be parties to the mandatory hearing and will present witnesses and evidentiary material.

Any member of the public who plans to attend the mandatory hearing is advised that security measures will be employed at the entrance to the building housing the hearing facility, including searches of hand-carried items such as briefcases or backpacks, and is reminded to allow sufficient time for security screening and to bring a government-issued photo ID (e.g., driver's license). The public is further advised that, in accordance with 10 CFR 2.390, portions of the hearing sessions may be closed to the public because the matters at issue may involve the discussion of protected information.

C. Opportunity To View the Hearing Via Webstreaming

In addition to in-person attendance, the public may view the hearing over the Internet via publicly-available Webstreams. The Webstream sessions may be accessed through the following links: Tuesday, January 25, 2011, http://www.visualwebcaster.com/event.asp?id=75030; Wednesday, January 26, 2011 (if needed), http://www.visualwebcaster.com/event.asp?id=75033; Thursday, January 27, 2011 (if needed), http://www.visualwebcaster.com/event.asp?id=75034. As with in-person attendance, in accordance with 10 CFR 2.390, access to portions of the hearing sessions may be closed to the public because the matters at issue may involve the discussion of confidential/protected information.

D. Availability of Documentary Information Regarding the Proceeding

The AES application and various staff documents relating to the application are available on the NRC Web site at http://www.nrc.gov/materials/fuel-cycle-fac/arevanc.html.

These and other documents relating to this proceeding also are available for public inspection at the Commission's Public Document Room (PDR), located at the One White Flint North Building, 11555 Rockville Pike (first floor), Rockville, Maryland, or electronically from the publicly-available records component of NRC's document system (ADAMS). ADAMS is accessible from the NRC Web site at http://www.nrc.gov/reading-rm/adams.html (the Public Electronic Reading Room).* Persons who do not have access to ADAMS or who encounter problems in accessing the documents located in ADAMS should contact the NRC PDR reference staff by telephone at (800) 397-4209 or (301) 415-4737 (available between 8 a.m. and 4 p.m. ET, Monday through Friday except Federal holidays), or by e-mail to pdr@nrc.gov.

* Some documents determined by the staff to contain “sensitive” information are publicly available only in redacted form; non-sensitive documents are publicly available in their complete form. In addition, some documents that may contain information proprietary to AES are publicly available only in redacted form.

E. Information Updates to Schedule

Any updates or revisions to the mandatory hearing schedule outlined in this notice can be found on the NRC Web site at http://www.nrc.gov/public-involve/public-meetings/index.cfm, or by calling (800) 368-5642, extension 5036 (available between 7 a.m. and 9 p.m. ET, Monday through Friday, except Federal holidays), or by calling (301) 415-5036 (available seven days a week, twenty-four hours a day).

F. Submitting Written Limited Appearance Statements

As provided in 10 CFR 2.315(a), any person not a party, or the representative of a party, to the proceeding may submit a written statement setting forth his or her position on matters of concern relating to this proceeding. The Board would particularly encourage such statements regarding the matters addressed in the staff's final SER (Office of Nuclear Materials Safety and Safeguards, NRC, NUREG-1951, [SER] for the [EREF] in Bonneville, County, Idaho (Sept. 2010) (ADAMS Accession No. ML102710296)). Although these statements do not constitute testimony or evidence, they nonetheless may help the Board or the parties in their consideration of the issues in this proceeding.

A written limited appearance statement may be submitted at any time and should be sent to the Office of the Secretary using one of the methods prescribed below:

Mail: Office of the Secretary, Rulemakings and Adjudications Staff, U.S. Nuclear Regulatory Commission, Washington, DC 20555-0001.

Fax: (301) 415-1101 (verification (301) 415-1966)

E-mail: hearingdocket@nrc.gov.

In addition, using the same method of service, a copy of the written limited appearance statement should be sent to the Chairman of this Licensing Board as follows:

Mail: Administrative Judge G. Paul Bollwerk, III, Atomic Safety and Licensing Board Panel, Mail Stop T-3F23, U.S. Nuclear Regulatory Commission, Washington, DC 20555-0001.

Fax: (301) 415-5599 (verification (301) 415-6094)

E-mail: paul.bollwerk@nrc.gov.

Although the Board does not intend to conduct oral limited appearance sessions at this juncture, at a later date the Board may entertain oral limited appearance statements at a location or locations in the vicinity of the proposed EREF. Notice of any oral limited appearance sessions will be published in the Federal Register and would be made available to the public at the NRC's Public Document Room or on the NRC's Web site, http://www.nrc.gov.

It is so ordered.

For the Atomic Safety and Licensing Board.
Dated: December 17, 2010.
G. Paul Bollwerk, III,
Chairman, Rockville, Maryland.

[FR Doc. 2010-33184 Filed 1-3-11; 8:45 am]

BILLING CODE 7590-01-P